NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208)—University of California-Berkeley—Site Visit.

Date and Time: November 14, 2018; 8:00 p.m.-9:00 p.m., November 15, 2018; 8:30 a.m.-6:45 p.m. through November 16, 2018; 8:30 a.m.-4:00 p.m.

Place: University of California-Berkeley, 420 Latimer Hall, Berkeley, CA 94720.

Type of Meeting: Part-Open.

Contact Person: Bogdan Mihaila, Program Director for Nuclear Theory, Division of Physics, National Science Foundation, 2415 Eisenhower Avenue, Room W9217, Alexandria, VA 22314; Telephone: (703) 292-8235.

Purpose of Meeting: Site visit to provide an evaluation of the progress of the projects at the host site for the Division of Physics at the National Science Foundation.

Agenda

November 14, 2018 8:00 a.m.-9:00 p.m.

8:00 p.m.-9:00 p.m. Informal Panel Orientation (CLOSED)

November 15, 2018; 8:30 a.m.-6:45 p.m.

8:30 a.m.-8:45 a.m. Greetings and introductions

8:45 a.m.-9:00 a.m. Executive Session (CLOSED)

9:00 a.m.-9:45 a.m. N3AS Director Report on FRHTP Program and Activities

9:45 a.m.-10:00 a.m. Break

10:00 a.m.-12:15 p.m. Science Presentations (SIs or PsIs)

12:15 p.m.-1:45 p.m. Lunch (with Postdocs/Students) (CLOSED)

1:45 p.m.-2:30 p.m. Science Presentations (SIs) or (PSIs)

2:30 p.m.-4:15 p.m. Postdoc Presentations

4:15 p.m.-5:00 p.m. Executive Session to formulate queries (CLOSED)

5:00 p.m.-6:45 p.m. Poster Session

6:45 p.m. Panel and NSF Staff Dinner (CLOSED)

November 16, 2018; 8:30 a.m.-4:00 p.m.

8:30 a.m.-9:00 a.m. Coffee and Pastries

9:00 a.m.-10:30 a.m. Response to Panel Queries (CLOSED)

10:30 a.m.-11:00 a.m. Department Chair (CLOSED)

11:00 p.m.-12:00 p.m. Dean and VPR (CLOSED)

12:00 p.m.-1:30 p.m. Executive Session (Lunch) (CLOSED)

1:30 p.m.-2:15 p.m. N3AS Director (PI) & Executive Board (Co-PIs) (CLOSED)

2:15 p.m.-4:00 p.m. Complete Report (CLOSED)

5:00 p.m. Adjourn

Reason for Closing: Topics to be discussed and evaluated during the closed portions of the site review will include information of a proprietary or confidential nature, including technical information and information on personnel. These matters are exempt under 5 U.S.C. 552b(c), (4) and (6) of the Government in the Sunshine Act.

Dated: October 10, 2018.
Crystal Robinson,
Committee Management Officer.

[FR Doc. 2018-22401 Filed 10-12-18; 8:45 am]

BILLING CODE 7555-01-P